NATIONAL AERONAUTICS AND SPACE ADMINISTRATION

[Notice (08-042)]

Aerospace Safety Advisory Panel; Meeting

AGENCY: National Aeronautics and Space Administration (NASA).

ACTION: Notice of Meeting.

SUMMARY: In accordance with the Federal Advisory Committee Act, Public Law 92-463, as amended, the National Aeronautics and Space Administration announce a forthcoming meeting of the Aerospace Safety Advisory Panel.

DATES: Thursday, May 22, 2008, 1 p.m. to 3 p.m. Eastern Daylight Time.

ADDRESSES: NASA Headquarters, 300 E Street, SW., Washington, DC 20546, Room 9H40.

FOR FURTHER INFORMATION CONTACT: Ms. Kathy Dakon, Aerospace Safety Advisory Panel Executive Director, National Aeronautics and Space Administration, Washington, DC 20546, (202) 358-0732.

SUPPLEMENTARY INFORMATION: The Aerospace Safety Advisory Panel will hold its 2nd Quarterly Meeting for 2008. This discussion is pursuant to carrying out its statutory duties for which the Panel reviews, identifies, evaluates, and advises on those program activities, systems, procedures, and management activities that can contribute to program risk. Priority is given to those programs that involve the safety of human flight. The agenda will include updates on Technical Authority, Technical Standards, Fall Protection Standards, Drug and Alcohol Testing Standards, and Exploration Human vs. Robotic Review Process.

The meeting will be open to the public up to the seating capacity of the room. Seating will be on a first-come basis. Please contact Ms. Susan Burch on (202) 358-0550 at least 48 hours in advance to reserve a seat. It is imperative that the meeting be held on this date to accommodate the scheduling priorities of the key participants. Attendees will be required to sign a register and to comply with NASA security requirements, including the presentation of a valid picture ID, before receiving an access badge. All attendees will need to provide the following information to receive an access badge: full name; gender; date/place of birth; citizenship; employer/affiliation information (name of institution, address, county, phone), and title/position. Foreign Nationals will need to provide the following additional information: visa/green card information (number, type, expiration date. To expedite admittance, attendees can provide their identifying information in advance by contacting Ms. Susan Burch via e-mail at susan.burch@nasa.gov or by telephone at (202) 358-0550. Persons with disabilities who require assistance should indicate this.

Photographs will only be permitted during the first 10 minutes of the meeting. During the first 30 minutes of the meeting, members of the public may make a 5-minute verbal presentation to the Panel on the subject of safety in NASA. To do so, please contact Ms. Susan Burch on (202) 358-0550 at least 48 hours in advance. Any member of the public is permitted to file a written statement with the Panel at the time of the meeting. Verbal presentations and written comments should be limited to the subject of safety in NASA.

Dated: April 30, 2008.
P. Diane Rausch,
Advisory Committee Management Officer, National Aeronautics and Space Administration.

[FR Doc. E8-10016 Filed 5-6-08; 8:45 am]

BILLING CODE 7510-13-P